DEPARTMENT OF AGRICULTURE

Food Safety and Inspection Service

[Docket No. 04-046N]

Codex Alimentarius Commission: Nineteenth Session of the Codex Committee on Fats and Oils

AGENCY: Food Safety and Inspection Service, USDA.

ACTION: Notice of public meeting, request for comments.

SUMMARY: The Office of the Under Secretary for Food Safety, United States Department of Agriculture (USDA), and the Food and Drug Administration (FDA), United States Department of Health and Human Services, are sponsoring a public meeting on February 1, 2005, to provide information and receive public comments on all agenda items that will be discussed at the Nineteenth Session of the Codex Committee on Fats and Oils (CCFO) of the Codex Alimentarius Commission (Codex). The 19th Session of the CCFO will be held in London, United Kingdom, February 21-25, 2005. The Under Secretary and FDA recognize the importance of providing interested parties the opportunity to obtain background information on the agenda items that will be discussed at this forthcoming session of the CCFL.

DATES: The public meeting is scheduled for Tuesday, February 1, 2005 from 10 a.m. to 12 noon.

ADDRESSES: The public meeting will be held in the Room 1A-002, Harvey W. Wiley Federal Building, 5100 Paint Branch Parkway, College Park, MD. Documents related to the 19th Session of the CCFO will be accessible via the World Wide Web at the following address: http://www.codexalimentarius.net/current.asp.

FSIS invites interested persons to submit comments on this notice. Comments may be submitted by any of the following methods:

• Mail, including floppy disks or CD-ROMs, and hand-or courier-delivered items: Send to the FSIS Docket Clerk, U.S. Department of Agriculture, Food Safety and Inspection Service, 300 12th Street, SW., Room 102, Cotton Annex, Washington DC 20250-3700. All Comments received must include the Agency name and docket number 04-046N.

All comments submitted in response to this notice, will be available for public inspection in the FSIS Docket Room at the address listed above between 8:30 a.m. and 4:30 p.m., Monday through Friday. The comments also will be posted on the Agency's Web site at http://www.fsis.usda.gov/regulations/2005_Notices_Index/.

For Further Information About the 19th Session of the CCFO Contact: U.S. Delegate, Mr. Charles W. Cooper, Director, International Activities Staff, Center for Food Safety and Applied Nutrition, Food and Drug Administration (HFS-585), Harvey W. Wiley Federal Building, 5100 Paint Branch Parkway, College Park, MD 20740-3835, Phone: (301) 436-1714, Fax: (301) 436-2618, Email: Charles.Cooper@cfsan.fda.gov.

For Further Information About the Public Meeting Contact: Syed Amjad Ali, International Issues Analyst, U.S. Codex Office, FSIS, Room 4861, South Building, 1400 Independence Avenue SW., Washington, DC 20250-3700, Phone: (202) 205-7760, Fax: (202) 720-3157. Persons requiring a sign language interpreter or other special accommodations should notify the Delegate at the address above.

SUPPLEMENTARY INFORMATION:

Background

The Codex Alimentarius Commission (Codex) was established in 1962 by two United Nations organizations, the Food and Agriculture Organization (FAO) and the World Health Organization (WHO). Codex is the major international standard-setting organization for protecting the health and economic interests of consumers and ensuring fair practices in international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Fats and Oils was established to elaborate codes and standards for fats and oils and their products. The Committee is chaired by the United Kingdom.

Issues To Be Discussed at the Public Meeting

The following items on the agenda for the 19th Session of CCFO will be discussed during the public meeting:

1. Matters arising from the Codex Alimentarius Commission and other Codex Committees.

2. Draft Standard for Fat Spreads and Blended Spreads.

3. Consideration of the Linolenic acid level in Section 3.9 of the Standard for Olive Oils and Olive Pomace Oils.

4. Proposed Draft Amendments to the Standard for Named Vegetable Oils (Rice Bran Oil, Amendment to Sesame Seed Oil).

5. Proposed Draft Revised Table 1 of the Recommended International Code of Practice for the Storage and Transport of Edible Fats and Oils in Bulk.

6. Discussion Paper for Criteria for the revision of the Standard for Named Vegetable Oils.

Each issue listed will be fully described in documents distributed, or to be distributed, by the United Kingdom Secretariat to the Meeting. Members of the public may access copies of these documents (see ADDRESSES).

Public Meeting

At the February 1, 2005 public meeting, these agenda items will be described and discussed, and attendees will have the opportunity to pose questions and offer comments. Written comments may be offered at the meeting or sent to the U.S. Delegate, for the 19th Session of the CCFO, Charles Cooper (See ADDRESSES). Written comments should state that they relate to activities of the 19th Session of the CCFO.

Additional Public Information

Public awareness of all segments of rulemaking and policy development is important. Consequently, in an effort to ensure that the public and in particular minorities, women, and persons with disabilities are aware of this notice, FSIS will announce it on-line through the FSIS Web page located at http://www.fsis.usda.gov.

FSIS also will make copies of this Federal Register publication available through the FSIS Constituent Update, which is used to provide information regarding FSIS policies, procedures, regulations, Federal Register notices, FSIS public meeting, recalls, and other types of information that could affect or would be of interest to our constituents and stakeholders. The update is communicated via Listserv, a free e-mail subscription service consisting of industry, trade, and farm groups, consumer interest groups, allied health professionals, scientific professionals, and other individuals who have requested to be included. The update is available on the FSIS Web page. Through Listserv and the Web page, FSIS is able to provide information to a much broader, more diverse audience.

Done at Washington, DC on: January 25, 2005.
F. Edward Scarbrough,
U.S. Manager for Codex Alimentarius.

[FR Doc. 05-1701 Filed 1-28-05; 8:45 am]

BILLING CODE 3410-DM-P